DEPARTMENT OF COMMERCE

Foreign-Trade Zones Board

[Order No. 1759]

Reorganization of Foreign-Trade Zone 64 Under Alternative Site Framework; Jacksonville, FL

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/09; correction 74 FR 3987, 01/22/09; 75 FR 71069-71070, 11/22/10) as an option for the establishment or reorganization of general-purpose zones;

Whereas, the Jacksonville Port Authority, grantee of Foreign-Trade Zone 64, submitted an application to the Board (FTZ Docket 63-2010, filed 11/04/10) for authority to reorganize under the ASF with a service area of the Florida counties of Baker, Clay, Columbia, Duval and Nassau, in and adjacent to the Jacksonville Customs and Border Protection port of entry; FTZ 64's existing sites 2 and 5 would be removed; the non-contiguous parcel of Site 3 would be renumbered as Site 9; Sites 1, 3, 9, and 10 would be categorized as magnet sites; and, Sites 4, 7, and 8 would be categorized as usage-driven sites;

Whereas, notice inviting public comment was given in the Federal Register (75 FR 69048, 11/10/10) and the application has been processed pursuant to the FTZ Act and the Board's regulations; and,

Whereas, the Board adopts the findings and recommendation of the examiner's report, and finds that the requirements of the FTZ Act and Board's regulations are satisfied, and that the proposal is in the public interest;

Now, therefore, the Board hereby orders:

The application to reorganize FTZ 64 under the alternative site framework is approved, subject to the FTZ Act and the Board's regulations, including Section 400.28, to the Board's standard 2,000-acre activation limit for the overall general-purpose zone project, to a five-year ASF sunset provision for magnet sites that would terminate authority for Sites 1, 9, and 10 if not activated by May 31, 2016, and to a three-year ASF sunset provision for usage-driven sites that would terminate authority for Sites 4, 7, and 8 if no foreign-status merchandise is admitted for a bona fide customs purpose by May 31, 2014.

Signed at Washington, DC, this 6th day of May, 2011.
Ronald K. Lorentzen,
Deputy Assistant Secretary for Import Administration, Alternate Chairman, Foreign-Trade Zones Board.
Andrew McGilvray,
Executive Secretary.

[FR Doc. 2011-12091 Filed 5-16-11; 8:45 am]

BILLING CODE 3510-DS-P